DEPARTMENT OF COMMERCE

Census Bureau

Proposed Information Collection; Comment Request; The American Community Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before February 12, 2018.

ADDRESSES: Please direct all written comments to Jennifer Jessup, Departmental Paperwork Clearance Officer, Department of Commerce, Room 6616, 14th and Constitution Avenue NW, Washington, DC 20230 (or via the internet at PRAcomments@doc.gov). You may also submit comments, identified by Docket number USBC-2017-0005, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Requests for additional information or copies of the information collection instrument(s) and instructions should be directed to Robin A. Pennington, Rm. 2H465, U.S. Census Bureau, Decennial Census Management Division, Washington, DC 20233 or via email to Robin.A.Pennington@census.gov.

SUPPLEMENTARY INFORMATION:

I. Abstract

Since the founding of the nation, the U.S. Census has mediated between the demands of a growing country for information about its economy and people, and the people's privacy and respondent burden. Beginning with the 1810 Census, Congress added questions to support a range of public concerns and uses, and over the course of a century questions were added about agriculture, industry, and commerce, as well as occupation, ancestry, marital status, disabilities, and other topics. In 1940, the U.S. Census Bureau introduced the long form and, since then, the more detailed questions were only asked of a sample of the public.

The American Community Survey (ACS), launched in 2005, is the current embodiment of the long form of the census and is asked each year of a sample of the U.S. population in order to provide current data needed more often than once every ten years.

The content of the proposed 2019 ACS questionnaire and data collection instruments for both Housing Unit and Group Quarters operations reflects changes to content and instructions that were proposed as a result of the 2016 ACS Content Test. The Census Bureau periodically conducts tests of new and improved survey content to ensure the ACS is meeting the data needs of its stakeholders. The primary objective of content tests is to test whether changes to question wording, response categories, and definitions of underlying constructs improve the quality of data collected.

The ACS is one of the Department of Commerce's most valuable data products, used extensively by businesses, non-governmental organizations (NGOs), local governments, and many federal agencies. In conducting this survey, the Census Bureau's top priority is respecting the time and privacy of the people providing information while preserving the survey's value to the public. The 2019 survey content changes cover several topics:

Telephone Service

The rise of cellphone and smartphone usage, and other complex and varied telephone services and equipment, has changed how people view and use telephones in a household. Research also suggests that some respondents, or in some cases interviewers, may not fully understand the current wording of the survey question on Telephone Service, the additional instructions that accompany the question, or what the question is intending to capture. To make the intent of the Telephone Service question easier to understand by respondents and interviewers, the question was made a stand-alone question and additional instructions are provided on the types of telephones and equipment respondents should include when answering the question. Currently, telephone service is asked as part of a broader question on housing characteristics.

Health Insurance

A question on health insurance premiums and subsidies will be introduced to the ACS immediately following the current question on health insurance coverage. The question on premiums and subsidies asks if a person pays a health insurance premium, and if so, if he or she received a subsidy to help pay the premium. This question will provide more accurate information about coverage categories than available from the existing ACS question on current coverage alone. These data will enhance the ability of HHS and the states to administer Medicaid, CHIP, and the exchanges, and monitor private insurance coverage.

Journey to Work

Changes to the Commute Mode question were motivated by changes in public transportation infrastructure across the United States, particularly the increased prevalence of light rail systems and the need to update and clarify the terminology used to refer to commute modes that appear as categories on the ACS. To improve the Commute Mode question, some of the public transportation modes were modified. The category “Streetcar or trolley car” was changed to “Light rail, street car, or trolley,” “Subway or elevated” was changed to “Subway or Elevated Rail,” and “Railroad” was changed to “Long-distance train or commuter rail.” These three rail-related categories were also slightly reordered so that “Subway or elevated rail,” the most prevalent rail mode, is listed first. The phrase “trolley bus” was dropped and the phrase “work at home” was changed to “work from home.” The subheading of instructions was simplified to read “Mark ONE box for the method of transportation used for most of the distance.” The Time of Departure question has historically raised concerns about privacy because of the reference to the time a person leaves home. To phrase the question in a less intrusive way, the question was changed to ask what time the person's trip to work began and to remove the word “home.”

Weeks Worked

The changes to the question on the number of weeks worked were made to allow the Census Bureau to provide high-quality, continuous measures for the number of weeks worked, such as means, medians, and aggregates. In addition, the changes enable additional specificity for weeks worked, particularly with hours worked, income, and occupation. Part A of the question regarding the time period of interest was rephrased from working “50 or more weeks” to “EVERY week” and additional information is provided in the second sentence. The original instruction of “Count paid time off as work” was changed to “Count paid vacation, paid sick leave, and military service as work.” For part B of the question, the response option was changed to a write-in response, the reference period (“the PAST 12 MONTHS”) is repeated, and new guidance clarifies what to count as work.

Class of Worker

Changes to the Class of Worker question improve overall question clarity, refine the definition of unpaid family workers, explicitly define a category for Active Duty military, improve question wording and categories, and improve the layout of the question. Response categories were grouped under three general headings. “Active Duty” was added as one of the response categories in the government section, and the “Active Duty” checkbox was dropped from the Employer Name question. Question and response category wording were revised for clarity. To signal that all six employment characteristics questions refer to the same job (including industry and occupation), the series was renumbered from separate questions to a single series with sub-questions. Lastly, the instructional text and heading for the series immediately preceding the Class of Worker question was simplified.

Industry and Occupation

Ongoing research of the Industry and Occupation question write-in responses has demonstrated that the questions were unclear and confusing to respondents, who were unable to answer at all or answer with sufficient clarity to provide useful data. To increase clarity and improve occupational specificity, these questions were revised to include new and consistent examples, in terms of content and length, and include modified question wording. The number of characters for write-in responses about “Job Duties” was expanded from 60 to 100 characters.

Retirement Income

Over the last 40 years, defined contribution retirement plans have become increasingly common while defined benefit plans (such as pensions) have become less so. Federal surveys have lagged in addressing these newer forms of retirement income and subsequently underreport retirement income. The Retirement, Survivor, and Disability Income question was changed to improve income reporting, increase item response rates, reduce reporting errors, and update questions on retirement income and the income generated from retirement accounts and all other assets in order to better measure retirement income data. The question was expanded to ask about “retirement income, pensions, survivor or disability income.” In addition, the instructions that accompany the question were expanded to note that income from “a previous employer or union, or any regular withdrawals or distributions from IRA, Roth IRA, 401(k), 403(b) or other accounts specifically designed for retirement” should be included.

Relationship

For several years, the Census Bureau has been testing revised Relationship questions to improve the estimates of coupled households. The 1990 Census first introduced “Unmarried Partner” as a response category to the Relationship to Householder question. The 2000 and 2010 Censuses built upon this work, changing the processing of responses to the Relationship question to more accurately represent same-sex couples. The Census Bureau discovered a statistical error in the 2010 Census data that resulted from opposite-sex couples mismarking their sex. This error has the potential to inflate the estimates of same-sex, married-couple households from the 2010 Census. The Census Bureau released a set of modified state-level, same-sex household estimates from the 2010 Census because of this error, and also began new research efforts to improve the Relationship question.

The Relationship question has been revised to improve measurement of same-sex couples. The existing “Husband or wife” and “Unmarried partner” response categories were each split into two versions: “Opposite-sex husband/wife/spouse,” “Opposite-sex unmarried partner,” “Same-sex husband/wife/spouse,” and “Same-sex unmarried partner.” Additionally, the two unmarried partner categories were moved from near the end of the list of response options to near the beginning, immediately after the “Husband/wife/spouse” options. An automated relationship/sex consistency check will be included in electronic instruments to provide respondents an opportunity to change their sex or relationship responses when there is an inconsistency in the reported sex of an individual and whether their relationship was reported as “Opposite-sex” or “Same-sex” husband/wife/spouse or unmarried partner. This check reduces the inconsistency in responses for a given household and improves the quality of the relationship data. The category “Roomer or boarder” has been dropped from the Relationship question.

Race and Hispanic Origin

The 2016 ACS Content Test served as an operational test of the race and ethnicity questions that were previously tested on the 2015 National Content Test (NCT). While recommendations about the race and ethnicity questions adopted for the 2020 Census and production ACS will be based on the results of the census tests and decisions made in consultation with the Office of Management and Budget (OMB), the 2016 ACS Content Test provided an opportunity to test data collection modes and examine other data not available in the 2015 NCT. The 2016 ACS Content Test evaluated interviewer-administered collection modes, assessed the race and ethnicity questions against demographic and socioeconomic data, and separately compared the race and ethnicity results to data from the ancestry question. In 2020 or later, the ACS will adopt the final version of the race and Hispanic origin questions that are implemented for the 2020 Census.

II. Method of Collection

In August 2012, the OMB in conjunction with the Census Bureau established a Subcommittee of the Interagency Council on Statistical Policy (ICSP) to address ACS matters. The ICSP Subcommittee on the ACS exists to advise the Chief Statistician at OMB and the Director of the Census Bureau on how the ACS can best fulfill its role in the portfolio of Federal household surveys and provide the most useful information with the least amount of burden. It may also advise Census Bureau technical staff on issues they request the subcommittee to examine or that otherwise arise in discussions. The ICSP Subcommittee on the ACS reviewed the proposed 2019 ACS content changes and recommended their approval to the OMB and the Census Bureau. For the 2016 ACS Content Test, initial versions of the new and revised questions were proposed by federal agencies participating in the OMB Interagency Committee for the ACS. The initial proposals contained a justification for each change and described any previous testing of the question wording, the expected impact of revisions to the time series and the single-year as well as five-year estimates, and the estimated net impact on respondent burden for the proposed revision. For proposed new questions, the justification also described the need for the new data, whether federal law or regulation required the data for small areas or small population groups, if other data sources were currently available to provide the information (and why any alternate sources were insufficient), how policy needs or emerging data needs would be addressed through the new question, an explanation of why the data were needed with the geographic precision and frequency provided by the ACS, and whether other testing or production surveys had evaluated the use of the proposed questions.

The Census Bureau and the OMB, as well as the ICSP Subcommittee, reviewed these proposals for the ACS. The OMB determined which proposals moved forward into cognitive testing. After OMB approval of the proposals, topical subcommittees were formed from the OMB Interagency Committee on the ACS, which included all interested federal agencies that use the data from the proposed questions. These subcommittees further refined the specific proposed wording in preparation for cognitive testing.

The Census Bureau contracted with Westat, an internationally recognized organization with expertise in statistical research and survey methods, to conduct three rounds of cognitive testing. The results of the first two rounds of cognitive testing informed decisions on specific revisions to the proposed content for the stateside 2016 ACS Content Test. The proposed changes, identified through cognitive testing for each question topic, were reviewed by the Census Bureau, the corresponding topical subcommittee, and the ICSP Subcommittee for the ACS. The OMB then provided final overall approval of the proposed wording for field testing.

The public is invited to comment on all questions on the ACS; however, the Census Bureau is particularly interested in comments on the wording changes to the nine ACS questions listed above, which are proposed to be changed based on the results of the 2016 ACS Content Test. Concurrently, Federal agencies that are the principal sponsors of these nine questions are invited to respond either directly to the Census Bureau or through this notice.

III. Data

OMB Control Number: 0607-0810.

Form Number(s): ACS-1(2019).

Type of Review: Regular submission.

Affected Public: Federal and legislative agencies, individuals, households, and businesses.

Estimated Time per Response: 40 minutes for the average household questionnaire.

Estimated Total Annual Burden Hours: The Census Bureau plans to contact the following number of respondents each year: 3,540,000 households; 200,000 persons in group quarters; 20,000 contacts in group quarters; 43,000 households for reinterview; and 1,500 group quarters contacts for reinterview. The estimate is an annual average of 2,337,900 burden hours.

Estimated Total Annual Cost to Public: $0.

Respondent's Obligation: Mandatory.

Legal Authority: Title 13 U.S.C. Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental PRA Lead, Office of the Chief Information Officer.

[FR Doc. 2017-26726 Filed 12-11-17; 8:45 am]

BILLING CODE 3510-07-P